ENVIRONMENTAL PROTECTION AGENCY

[RCRA-2003-0006; SWH-FRL-7595-1]

Recovered Materials Advisory Notice V

AGENCY: Environmental Protection Agency.

ACTION: Notice of draft document for review.

SUMMARY: The Environmental Protection Agency (EPA or the Agency) today is providing notice of the issuance of a draft Recovered Materials Advisory Notice (RMAN V). The RMAN provides guidance to procuring agencies for purchasing certain items containing recovered materials. Under section 6002 of the Resource Conservation and Recovery Act of 1976, EPA designates items that are or can be made with recovered materials and provides recommendations for the procurement of these items. Elsewhere in today's Federal Register, EPA is proposing to revise the current compost designation to include compost made from manure or biosolids, and designate fertilizers made from recovered organic materials. Also in that Federal Register notice, EPA is proposing to consolidate all compost designations under one item called “compost made from recovered organic materials.”

DATES: EPA will accept public comments on the recommendations contained in the draft RMAN V until February 9, 2004.

ADDRESSES: Comments may be submitted electronically, by mail, or through hand delivery/courier. OSWER Docket, EPA Docket Center, Environmental Protection Agency, Mailcode: 5305T, 1200 Pennsylvania Ave., NW., Washington, DC 20460, Attention Docket ID No. RCRA-2003-0006. Follow the detailed instructions as provided in Unit I.B of the SUPPLEMENTARY INFORMATION section.

FOR FURTHER INFORMATION CONTACT: For general information contact the RCRA Call Center at (800) 424-9346 or TDD (800) 553-7672 (hearing impaired). In the Washington, DC metropolitan area, call (703) 412-9810 or TDD (703) 412-3323. For technical information on individual item recommendations, contact Sue Nogas at (703) 308-0199.

SUPPLEMENTARY INFORMATION:

I. General Information

A. How Can I Get Copies of This Document and Other Related Information?

1. Docket. EPA has established an official public docket for this action under Docket ID No. RCRA-2003-0006. The official public docket consists of the documents specifically referenced in this action, any public comments received, and other information related to this action. Although a part of the official docket, the public docket does not include Confidential Business Information (CBI) or other information whose disclosure is restricted by statute. The official public docket is the collection of materials that is available for public viewing at the OSWER Docket in the EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OSWER Docket is (202) 566-0270.

2. Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.A.

For public commenters, it is important to note that EPA's policy is that public comments, whether submitted electronically or in paper;, will be made available for public viewing in EPA's electronic public docket as EPA receives them and without change, unless the comment contains copyrighted material, CBI, or other information whose disclosure is restricted by statute. When EPA identifies a comment containing copyrighted material, EPA will provide a reference to that material in the version of the comment that is placed in EPA'S electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

B. How and to Whom Do I Submit Comments?

You may submit comments electronically, by mail, or through hand delivery/courier. To ensure proper receipt by EPA, identify the appropriate docket identification number in the subject line on the first page of your comment. Please ensure that your comments are submitted within the specified comment period. Comments received after the close of the comment period will be marked “late.” EPA is not required to consider these later comments. However, late comments may be considered if time permits.

1. Electronically. If you submit an electronic comment as prescribed below, EPA recommends that you include your name, mailing address, and an e-mail address or other contact information in the body of your comment. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from theEPA Internet home page, select “Information Sources,” “Dockets,” and “EPA Dockets.” Once in the system, select “search,” and then key in Docket ID No. RCRA-2003-0006. The system is an “anonymous access” system, which means EPA will not know your identity, e-mail address, or other contact information unless you provide it in the body of your comment.

ii. E-mail. Comments may be sent by electronic mail (e-mail) to rcra-docket@epa.gov, Attention Docket ID No. RCRA-2003-0006. In contrast to EPA's electronic public docket, EPA's e-mail system is not an “anonymous access” system. If you send an e-mail comment directly to the Docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.B.2. These electronic submissions will be accepted in WordPerfect or ASCII file format. Avoid the use of special characters and any form of encryption.

2. By Mail. Send your comments to: OSWER Docket, EPA Docket Center, Environmental Protection Agency, Mailcode: 5305T, 1200 Pennsylvania Ave., NW., Washington, DC 20460, Attention Docket ID No. RCRA-2003-0006.

3. By Hand Delivery or Courier. Deliver your comments to: EPA Docket Center (EPA/DC), EPA West, Room B102, 1301 Constitution Ave., NW., Washington, DC. Attention Docket ID No. RCRA-2003-0006. Such deliveries are only accepted during the Docket's normal hours of operation as identified in Unit I.A.1.

C. How Should I Submit CBI to the Agency?

Do not submit information that you consider to be CBI electronically through EPA's electronic public docket. Send or deliver information identified as CBI only to the following address: Document Control Officer (5305W), Office of Solid Waste, U.S. Environmental Protection Agency, Ariel Rios Building, 1200 Pennsylvania Avenue, NW., Washington, DC 20460, Attention Docket ID No. RCRA-2003-0006. You may claim information that you submit to EPA as CBI by marking any part or all of that information as CBI. Information so marked will not be disclosed except in accordance with procedures set forth in 40 CFR part 2.

In addition to one complete version of the comment that includes any information claimed as CBI, a copy of the comment that does not contain the information claimed as CBI must be submitted for inclusion in the public docket and EPA's electronic public docket. Information not marked as CBI will be included in the public docket and EPA's electronic public docket without prior notice. If you have any questions about CBI or the procedures for claiming CBI, please consult the person identified in the FOR FURTHER INFORMATION CONTACT section.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

II. What Is the Statutory Authority for This Proposed Action?

The draft Recovered Materials Advisory Notice (RMAN V) is issued under the authority of sections 2002(a) and 6002 of the Solid Waste Disposal Act, as amended by the Resource Conservation and Recovery Act of 1976 (RCRA), as amended; and 42 U.S.C. 6912(a) and 2962. EPA is also issuing draft RMAN V to comply with section 502 of Executive Order 13101, “Greening the Government Through Waste Prevention, Recycling, and Federal Acquisition” (63 FR 49643, September 14, 1998).

III. What Is the Background for This Proposed Action?

Section 6002 of RCRA establishes a Federal buy-recycled program. RCRA section 6002(e) requires EPA to (1) designate items that are or can be made with recovered materials and (2) prepare guidelines to assist procuring agencies in complying with affirmative procurement requirements set forth in paragraphs (c), (d), and (i) of section 6002. Once EPA has designated items, section 6002 requires that any procuring agency using appropriated Federal funds to procure those items must purchase them composed of the highest percentage of recovered materials practicable. For the purposes of RCRA section 6002, procuring agencies include the following: (1) Any Federal agency; (2) any State or local agencies using appropriated Federal funds for a procurement, or (3) any contractors with these agencies (with respect to work performed under the contract). The requirements of RCRA section 6002 apply to such procuring agencies only when procuring designated items where the price of the item exceeds $10,000 or the quantity of the item purchased in the previous year exceeded $10,000.

Executive Order 13101 directs EPA to designate items in a Comprehensive Procurement Guideline (CPG) and publish guidance that contains EPA's recommended recovered content levels for the designated items in the RMANs. The Executive Order further directs EPA to update the CPG every 2 years and the RMANs periodically to reflect changes in market conditions. EPA codifies the CPG designations in the Code of Federal Regulations (CFR), but because the recommendations are guidance, the RMANs are not codified in the CFR. This process enables EPA to revise its recommendations in response to changes in a product's availability or recovered materials content so as to provide timely assistance to procuring agencies in fulfilling their RCRA section 6002 responsibilities.

The first CPG (CPG I) was published on May 1, 1995 (60 FR 21370): It established eight product categories, designated 19 new items in seven of those categories, and consolidated five earlier item designations.¹ At the same time, EPA also published a notice of availability of the first RMAN (RMAN I) (60 FR 21386). On November 13, 1997, EPA published CPG II (62 FR 60962), which designated an additional 12 items. At the same time, EPA published an RMAN II notice (62 FR 60975). Paper Products RMANs were issued on May 29, 1996 (61 FR 26985), and June 8, 1998 (63 FR 31214). On January 19, 2000, EPA published CPG III (65 FR 3070), which designated an additional 18 items. At the same time, EPA published an RMAN III notice (65 FR 3082). On August 28, 2001, EPA published a proposed CPG IV (66 FR 45256), which proposed to designate an additional 11 items. At the same time, EPA published a draft RMAN IV notice (66 FR 45297). EPA expects to promulgate the final CPG IV and sign a notice concerning the availability of RMAN IV in the near future. For more information on CPG, go to the EPA Web site at http://www.epa.gov/cpg/.

¹ Between 1983 and 1989, EPA issued five guidelines for the procurement of products containing recovered materials, which were previously codified at 40 CFR parts 248, 249, 250, 252, and 253. These products include cement and concrete containing fly ash, paper and paper products, re-refined lubricating oils, retread tires, and building insulation.

Today, in CPG V, EPA is proposing to revise the current compost designation to include compost made from manure or biosolids, and designate fertilizers made from recovered organic materials. EPA is also proposing to consolidate all compost designations under one item called “compost made from recovered organic materials.” Once finalized, today's RMAN V will serve as companion guidance to the previous RMANs.

EPA, once again, wants to stress that the recommendations in this notice are just that—recommendations and guidance to procuring agencies in fulfilling their obligations under RCRA section 6002. The designation of an item as one that is or can be produced with recovered materials and the inclusion of recommended content levels for an item in the RMAN does not compel the procurement of an item when the item is not suitable for its intended purpose. RCRA section 6002 is explicit in this regard when it authorizes a procuring agency not to procure a designated item which “fails to meet the performance standards set forth in the applicable specification or fails to meet the reasonable performance standards of the procuring agencies.” Section 6002(1)(B), 42 U.S.C. 6962(c)(B).

A. What Is the Methodology for Recommending Recovered Materials Content Levels?

In providing guidance in the RMANs, the Executive order directs EPA to present “the range of recovered materials content levels within which the designated recycled items are currently available.” Based on the information available to the Agency, EPA generally recommends ranges that encourage manufacturers to incorporate the maximum amount of recovered materials into their products without compromising competition or product performance and availability. EPA recommends that procuring agencies use these ranges, in conjunction with their own research, to establish minimum content standards for use in purchasing the designated items. EPA generally recommends ranges rather than minimum content standards. The items for which recommendations are being proposed today are generally made exclusively from recovered materials (e.g., manure, biosolids, etc.). Therefore, recommended ranges of recovered materials are not appropriate for these items.

EPA reviewed publicly available information, information obtained from product manufacturers, and information provided by other government agencies regarding the use of recovered materials in the items proposed for designation in CPG V.

More information on EPA's methodology for issuing RMANs in contained in “Background Document for Proposed CPG V and Draft RMAN V,” found in the RCRA public docket for this notice and on EPA's CPG Web site at http://www.epa.gov/cpg.

B. What Are the Definitions of Terms Used in This Proposed Action?

Definitions for the revised definition of “compost” and the new definition of “organic fertilizer” covered in this RMAN V are included in the proposed CPG V published in the proposed rule section of today's Federal Register.

C. What Comments Is EPA Requesting?

EPA requests comments, including additional supporting documentation and information, on the types of recovered materials identified in the item recommendations, and other recommendations, including specifications, for purchasing the designated items containing recovered materials.

IV. Supporting Information and Accessing Internet

The index of supporting materials for today's proposed CPG V is available in the OSWER Docket and on the Internet. The address and telephone number of the OSWER Docket are provided in the SUPPLEMENTARY INFORMATION section above. To access information on the Internet, go to the EPA Dockets Web site at http://www.epa.gov/edocket/. The index and the following supporting materials are available in the OSWER Docket and on the Internet:

“Background Document for Proposed CPG V and Draft RMAN V,” U.S. EPA, Office of Solid Waste and Emergency Response, March 2003.

Copies of the following supporting materials are available for viewing at the OSWER Docket only:

“Recovered Materials Product Research for the Comprehensive Procurement Guideline V,” Draft Report, December 2002.

Dated: November 25, 2003.
Michael O. Leavitt,
Administrator.

Recovered Materials Advisory Notice V

The following represents EPA's recommendations to procuring agencies for purchasing the items designated by EPA in the Comprehensive Procurement Guideline V (CPG V), in compliance with section 6002 of the Resource Conservation and Recovery Act (RCRA) and Executive Order 13101. These recommendations are interested to be used in conjunction with RMAN I (60 FR 21386, May 1, 1995), the Paper Products RMAN (61 FR 26985, May 29, 1996), the Paper Products RMAN II (63 FR 31214, June 8, 1998), RMAN II (62 FR 60975, November 13, 1997), RMAN III (65 FR 3082, January 19, 2000), and RMAN IV, once it is issued. Refer to the previous RMANs or the Code of Federal Regulations at 40 CFR part 247 for definitions, general recommendations for affirmative procurement programs, and recommendations for previously designated items. EPA has a Web site for the CPG program that provides information on all designated items and RMAN recommendations, including a consolidated RMAN. This information can be found at www.epa.gov/epg.

Contents

I. General Recommendations

II. Specific Recommendations for Procurement of Designated Items

Part F. Landscaping Products

Section F-2. Compost Made From Recovered Organic Materials (Revised).

Section F-6. Fertilizers Made From Recovered Organic Materials.

I. General Recommendations

General recommendations for definitions, specifications, and affirmative procurement programs can be found in the May 1, 1995 RMAN (60 FR 21386).

II. Specific Recommendations for Procurement of Designated Items

Recommendations for purchasing previously-designated items can be found in RMAN I (May 1, 1995); RMAN II (November 13, 1997); RMAN III (January 19, 2000); and the Paper Products RMAN's (May 29, 1996, and June 8, 1998).

Part F—Landscaping Products

Section F-2. Compost Made From Recovered Organic Materials (Revised)

Note: EPA previously designated yard trimmings compost in CPG I and food waste compost in CPG III. The proposed CPG V discusses the use of compost made from manure or biosolids. The final CPG V would consolidate all previous and proposed compost designations under one item called “compost made from recovered organic materials.” These materials could include yard trimmings, food waste, manure, biosolids, or other recovered organic materials that can be composted. Following are EPA's revised recommendations for purchasing compost. When EPA issues final recommendations for purchasing composts made from recovered organic materials, procuring agencies should substitute them for the recommendations found in section F-2 of RMAN III.

Preference Program: EPA recommends that procuring agencies purchase or use mature compost made from recovered organic materials in such applications as landscaping, seeding of grass or other plants on roadsides and embankments, as nutritious mulch under trees and shrubs, and in erosion control and soil reclamation. Mature compost is defined as a thermophilic converted product with high humus content, which can be used as a soil amendment and can also be used to prevent or remediate pollutants in soil, air, and storm water run-off.

EPA further recommends that those procuring agencies that have an adequate volume of organic materials, as well as sufficient space for composting, should implement a composting system to produce compost from these materials to meet their landscaping and other needs.

Specifications: EPA recommends that procuring agencies refer to the U.S. Composting Council's Test Methods for the Examination of Composting and Compost (TMECC) at www.compostingcouncil.org, which are standardized methods for the composting industry to test and evaluate compost and verify the physical, chemical, and biological characteristics of composting source materials and compost products. The TMECC also includes material testing guidelines to ensure product safety and market claims. Procuring agencies should also check for individual state regulations on the use of compost.

The U.S. Department of Transportation's “Standard Specifications for Construction of Roads and Bridges on Federal Highway Projects 1996” specifies compost as one of the materials suitable for use in roadside revegetation projects associated with road construction.

EPA issued regulations in 1993 that limit the pollutants and pathogens in biosolids, entitled “The Standards for the Use or Disposal of Sewage Sludge,” otherwise known as “the Part 503 Biosolids Rule” (40 CFR part 503). If biosolids are included as part of the compost, the processing and product are subject to the Part 503 Biosolids Rule Class A specifications for the highest level of pathogen and vector control (as described in section 2.3.1 of part 503) and specific metals limits, the compost product can be widely used, like any other fertilizer or soil-conditioning product.

Finally, EPA recommends that procuring agencies ensure that there is no language in their specifications relating to landscaping, soil amendments, erosion control, or soil reclamation that would preclude or discourage the use of compost made from recovered organic materials.

Section F-6. Organic Fertilizers

Note: Although fertilizer has some qualities similar to compost, for the purposes of the CPG, compost is considered a separate designation.

Preference Program: EPA recommends that procuring agencies purchase or use fertilizers made from recovered organic materials in such applications as agriculture and crop production, landscaping, horticulture, parks and other recreational facilities, on school campuses, and for golf course and turf maintenance.

Specifications: EPA recommends procuring agencies refer to the Organic Materials Review Institute (OMRI) at www.omri.org, which has developed guidelines and lists of materials allowed and prohibited for use in the production, processing, and handling of organically grown products. Procuring agencies should also check for individual state regulations on the use of organic fertilizers.

In addition, as mentioned above, biosolids can be used in the production of organic fertilizer and must meet the requirements specified in EPA's Part 503 Biosolids Rule before they can be beneficially used. The 40 CFR part 503 Biosolids Rule land application requirements ensure that any biosolids that are land applied contain pathogens and metals that are below specified levels to protect the health of humans, animals, and plants.

In proposing to designate fertilizers made from recovered organic materials in the CPG, EPA is not placing any limitations on the organic materials, but rather is relying on federal, state, and local regulations and guidance, as well as existing industry standards. EPA is requesting comment on whether it should place any limitations on the recovered organic materials contained in the fertilizers that the Agency is today proposing to designate in the CPG, and on what those limitations should be. EPA is also seeking comment and information on any other specifications which we should recommend that pertain to fertilizers made with recovered organic materials.

Finally, EPA recommends that procuring agencies ensure that there is no language in their specifications relating to landscaping or soil treatment that would preclude or discourage the use of fertilizers made from recovered organic materials.

[FR Doc. 03-30267 Filed 12-9-03; 8:45 am]

BILLING CODE 6560-50-M